POSTAL SERVICE

39 CFR Part 501

Authorization to Manufacture and Distribute Postage Meters

AGENCY: Postal Service.

ACTION: Final rule.

SUMMARY: This rule provides contact information for submission of questions or comments and all notification, plans, and reports directed by regulation throughout 39 CFR Part 501—Authorization to Manufacture and Distribute Postage Meters.

DATES: This rule is effective November 18, 2004.

FOR FURTHER INFORMATION CONTACT: Wayne Wilkerson, manager of Postage Technology Management, at 1735 N. Lynn Street, Rosslyn, VA 22209 by phone at (703) 292-3691 or by fax at (703) 292-4073.

SUPPLEMENTARY INFORMATION: Title 39, Code of Federal Regulations (CFR) Part 501, Sections 501.1 through 501.30 provide Federal rules and regulations governing the manufacture and distribution of postage meters. These sections reference requirements that must be submitted to Postal Service™ or Postage Technology Management without identification of contact information for submission of requirements or inquiries. Section 501.1 gives the contact information for Postage Technology Management, the Postal Service office responsible for authorization.

List of Subjects in 39 CFR Part 501

Administrative practice and procedure, Postal Service.

The Amendment

For the reasons set out in the preamble, the Postal Service is amending 39 CFR part 501 as follows:

PART 501—AUTHORIZATION TO MANUFACTURE AND DISTRIBUTE POSTAGE METERS

1. The authority citation for part 501 continues to read as follows:

Authority: 5 U.S.C. 552(a); 39 U.S.C. 101, 401, 403, 404, 410, 2601, 2605; Inspector General Act of 1978, as amended (Pub. L. 95-452, as amended), 5 U.S.C. App. 3.

2. Add § 501.1(f) to read as follows:

§ 501.1 Postage evidencing system/infrastructure authorization.

* * * * *

(f) The Postal Service functional area charged with administering authorization as described in this part 501 is the Postage Technology Management program office. All submissions cited throughout all sections of 39 CFR part 501 are to be made to this office in person or via U.S. mail to 1735 N. Lynn Street Room 5011, Rosslyn, VA 22209-6370 or via fax to 703-292-4073. Inquiries may be made via telephone to 703-292-3691, and information updates may be found on the U.S. Postal Service Web page at www.usps.com/postagesolutions/flash.htm.

Neva Watson,
Attorney, Legislative.

[FR Doc. 04-25558 Filed 11-17-04; 8:45 am]

BILLING CODE 7710-12-P